DEPARTMENT OF ENERGY

Federal Energy Regulatory Commission

Combined Notice of Filings #1

Take notice that the Commission received the following exempt wholesale generator filings:

Docket Numbers: EG24-284-000.

Applicants: Wheatridge East Wind, LLC.

Description: Wheatridge East Wind, LLC submits Notice of Self-Certification of Exempt Wholesale Generator Status.

Filed Date: 9/11/24.

Accession Number: 20240911-5110.

Comment Date: 5 p.m. ET 10/2/24.

Take notice that the Commission received the following electric rate filings:

Docket Numbers: ER19-1865-003; ER19-2142-004; ER19-2143-004; ER19-1866-003; ER19-2148-005; ER19-1867-003; ER19-2147-004; ER19-2141-004; ER19-1868-003; ER19-1869-003; ER19-2145-004; ER19-2144-004; ER19-1870-003; ER19-2140-004; ER19-1871-003; ER19-1872-003; ER19-2146-004.

Applicants: Warren Generation, LLC, Tolna Power, LLC, Titus Power, LLC, Shawville Power, LLC, Shawnee Power, LLC, Sayreville Power, LLC, Portland Power, LLC, Orrtanna Power, LLC, Niles Power, LLC, New Castle Power, LLC, Mountain Power, LLC, Hunterstown Power, LLC, Heritage Power Marketing, LLC, Hamilton Power, LLC, Gilbert Power, LLC, Brunot Island Power, LLC, Blossburg Power, LLC.

Description: Supplement to 07/31/2024, Notice of Change in Status of Blossburg Power, LLC, et al.

Filed Date: 9/9/24.

Accession Number: 20240909-5198.

Comment Date: 5 p.m. ET 9/30/24.

Docket Numbers: ER24-2519-001.

Applicants: PJM Interconnection, L.L.C.

Description: Tariff Amendment: Amendment of ER24-2519-000, Original GIA No. 7304; AG1-100 to be effective 6/14/2024.

Filed Date: 9/11/24.

Accession Number: 20240911-5066.

Comment Date: 5 p.m. ET 10/2/24.

Docket Numbers: ER24-3017-000.

Applicants: Tri-State Generation and Transmission Association, Inc.

Description: 205(d) Rate Filing: Initial Filing of Rate Schedule FERC No. 394 to be effective 11/10/2024.

Filed Date: 9/10/24.

Accession Number: 20240910-5138.

Comment Date: 5 p.m. ET 10/1/24.

Docket Numbers: ER24-3018-000.

Applicants: Serrano Solar, LLC.

Description: Baseline eTariff Filing: Market-Based Rate Application to be effective 11/11/2024.

Filed Date: 9/11/24.

Accession Number: 20240911-5034.

Comment Date: 5 p.m. ET 10/2/24.

Docket Numbers: ER24-3019-000.

Applicants: ISO New England Inc., Vermont Transco LLC.

Description: 205(d) Rate Filing: ISO New England Inc. submits tariff filing per 35.13(a)(2)(iii: Vermont Transco LLC; Request for Approval of Updated Depreciation Rates to be effective 11/1/2024.

Filed Date: 9/11/24.

Accession Number: 20240911-5062.

Comment Date: 5 p.m. ET 10/2/24.

Docket Numbers: ER24-3020-000.

Applicants: PJM Interconnection, L.L.C.

Description: 205(d) Rate Filing: Original NSA, SA No. 7343; Queue No AF1-092 to be effective 11/11/2024.

Filed Date: 9/11/24.

Comment Date: 5 p.m. ET 10/2/24.

Docket Numbers: ER24-3021-000.

Applicants: Ashwood Solar I, LLC.

Description: Baseline eTariff Filing: Market Based Rate to be effective 9/11/2024.

Filed Date: 9/11/24.

Accession Number: 20240911-5102.

Comment Date: 5 p.m. ET 10/2/24.

Docket Numbers: ER24-3022-000.

Applicants: Eldorado Solar Project, LLC.

Description: Initial rate filing: Eldorado Solar Shared Facilities Agreement Filing to be effective 10/28/2024.

Filed Date: 9/11/24.

Accession Number: 20240911-5104.

Comment Date: 5 p.m. ET 10/2/24.

Docket Numbers: ER24-3023-000.

Applicants: Florida Power & Light Company.

Description: 205(d) Rate Filing: FPL Certificate of Concurrence-DEF Interchange Contract-RS No. 24 to be effective 11/9/2024.

Filed Date: 9/11/24.

Accession Number: 20240911-5127.

Comment Date: 5 p.m. ET 10/2/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 11, 2024.
Debbie-Anne A. Reese,
Acting Secretary.

[FR Doc. 2024-21129 Filed 9-16-24; 8:45 am]

BILLING CODE 6717-01-P